DEPARTMENT OF THE INTERIOR

Bureau of Land Management

[15X L1109AF LLUT922000 L13200000.EL0000 24 1A, UTU-91102]

Notice of Invitation to Participate; Coal Exploration License Application UTU-91102, Sevier County, UT

AGENCY: Bureau of Land Management, Interior.

ACTION: Notice.

SUMMARY: Pursuant to the Mineral Leasing Act of 1920, as amended by the Federal Coal Leasing Amendments Act of 1976, and to Bureau of Land Management (BLM) regulations, all interested parties are hereby invited to participate with Canyon Fuel Company, LLC (Canyon) on a pro rata cost sharing basis, in a program for the exploration of coal deposits on 978.6 acres owned by the United States of America in Sevier County, Utah.

DATES: Any party seeking to participate in this exploration program must send written notice to both the BLM and Canyon, as provided in the ADDRESSES section below, no later than April 1, 2016. Beginning in the first week of April 2015, the notice of invitation was published once each week for two consecutive weeks in the Richfield Reaper, Richfield, Utah.

ADDRESSES: Copies of the exploration plan and license (serialized under the number of UTU-91102) submitted by Canyon are available for review from 7:45 a.m.-4:30 p.m., Monday through Friday, excluding Federal holidays, in the public room of the BLM-Utah State Office, 440 West 200 South, Suite 500, Salt Lake City, Utah.

Any party electing to participate in this exploration should send written notice to the following addresses: Roger Bankert, BLM-Utah State Office, Division of Lands and Minerals, 440 West 200 South, Suite 500, Salt Lake City, Utah 84101, and to Mark Bunnell, Canyon Fuel Company LLC., c/o Sufco Mine, 597 South SR 24, Salina, Utah 84654.

FOR FURTHER INFORMATION CONTACT: Stan Perkes by telephone: 801-539-4036, or by email: sperkes@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Canyon has applied to the BLM for a coal exploration license on public lands in the North Fork Quitchupah Canyon area near the existing Sufco Mine, which is located 30 miles north east of Salina, Utah. The exploration activities will be performed pursuant to the Mineral Leasing Act of 1920, as amended, 30 U.S.C. 201(b), and to the regulations at 43 CFR part 3410. The purpose of the exploration program is to obtain geologic knowledge of the coal underlying the exploration area for the purpose of assessing the coal resources. The Federal coal resource area to be explored includes the following described lands in Sevier County, Utah:

Salt Lake Meridian, Utah

T. 21 S., R. 4 E.,

Sec. 1, lot 4, and W1/2SW1/4;

Sec. 11;

Sec. 12, NW1/4NW1/4;

Sec. 14, NW1/4.

The areas described aggregate 978.60 acres.

The Federal coal within the above-described lands is currently not leased. Any exploration program will be fully described and conducted pursuant to an exploration license and plan approved by the BLM.

Authority: 30 U.S.C. 201(b) and 43 CFR 3410.2-1(c)(1).

Joseph Mendez,
Acting State Director.

[FR Doc. 2016-04532 Filed 3-1-16; 8:45 am]

BILLING CODE 4310-DQ-P